DEPARTMENT OF COMMERCE

International Trade Administration

[A-570-891]

Hand Trucks and Certain Parts Thereof From the People's Republic of China: Initiation of New Shipper Review

AGENCY: Import Administration, International Trade Administration, Department of Commerce

DATES: Effective Date: August 2, 2007.

SUMMARY: The Department of Commerce (the “Department”) has determined that the request for a new shipper review of the antidumping duty order on hand trucks and certain parts thereof (“Hand Trucks”) from the People's Republic of China (“PRC”), received July 2, 2007, meets the statutory and regulatory requirements for initiation. The period of review (“POR”) of this new shipper review is December 1, 2006, through May 31, 2007.

FOR FURTHER INFORMATION CONTACT: Matthew Quigley or Robert Bolling, AD/CVD Operations, Office 8, Import Administration, International Trade Administration, U.S. Department of Commerce, 14th Street and Constitution Avenue, NW., Washington, DC 20230; telephone: (202) 482-4551 or (202) 482-3434, respectively.

SUPPLEMENTARY INFORMATION:

Background

The notice announcing the antidumping duty order on hand trucks from the PRC was published on December 2, 2004. See Antidumping Duty Order: Hand Trucks and Certain Parts Thereof From the People's Republic of China, 69 FR 70122 (December 2, 2004). On July 2, 2007, we received a new shipper review request from New-Tec Integration (Xiamen) Co., Ltd. (“New-Tec”). New-Tec certified that it is both the producer and exporter of the subject merchandise upon which the respective request for a new shipper review is based.

Pursuant to section 751(a)(2)(B)(i)(I) of the Tariff Act of 1930, as amended (the “Act”), and 19 CFR 351.214(b)(2)(i), New-Tec certified that it did not export hand trucks to the United States during the period of investigation (“POI”). In addition, pursuant to section 751(a)(2)(B)(i)(II) of the Act and 19 CFR 351.214(b)(2)(iii)(A), New-Tec certified that, since the initiation of the investigation, it has never been affiliated with any exporter or producer who exported hand trucks to the United States during the POI, including those not individually examined during the investigation. As required by 19 CFR 351.214(b)(2)(iii)(B), New-Tec also certified that its export activities were not controlled by the central government of the PRC.

In addition to the certifications described above, New-Tec submitted documentation establishing the following: (1) The date on which it first shipped hand trucks for export to the United States; (2) the volume of its first shipment; and (3) the date of its first sale to an unaffiliated customer in the United States.

Initiation of New Shipper Review

Pursuant to section 751(a)(2)(B) of the Act and 19 CFR 351.214(d)(1), we find that the request submitted by New-Tec meets the threshold requirements for initiation of a new shipper review for shipments of hand trucks from the PRC produced and exported by New-Tec.

The POR is December 1, 2006, through May 31, 2007. See 19 CFR 351.214(g)(1)(i)(B). We intend to issue preliminary results of this review no later than 180 days from the date of initiation, and final results no later than 90 days from the date the preliminary results are issued. See section 751(a)(2)(B)(iv) of the Act.

It is the Department's usual practice, in cases involving non-market economies, to require that a company seeking to establish eligibility for an antidumping duty rate separate from the country-wide rate provide evidence of de jure and de facto absence of government control over the company's export activities. Accordingly, we will issue a questionnaire to New-Tec, including a separate-rate section. The review will proceed if the response provides sufficient indication that New-Tec is not subject to either de jure or de facto government control with respect to its exports of hand trucks. However, if New-Tec does not demonstrate its eligibility for a separate rate, it will be deemed not separate from other companies that exported during the POI, and its new shipper review will be rescinded.

On August 17, 2006, the Pension Protection Act of 2006 (H.R. 4) was signed into law. Section 1632 of H.R. 4 temporarily suspends the authority of the Department to instruct U.S. Customs and Border Protection to collect a bond or other security in lieu of a cash deposit in a new shipper review. Therefore, the posting of a bond or other security under section 751(a)(2)(B)(iii) of the Act in lieu of a cash deposit is not available in this case. Importers of hand trucks produced by and exported by New-Tec must continue to post cash deposits of estimated antidumping duties on each entry of subject merchandise (i.e., hand trucks) at the PRC-wide entity rate of 383.6 percent.

Interested parties that need access to proprietary information in this new shipper review should submit applications for disclosure under administrative protective order in accordance with 19 CFR 351.305 and 351.306.

This initiation and notice are in accordance with section 751(a)(2)(B) of the Act and 19 CFR 351.214 and 351.221(c)(1)(i).

Dated: July 26, 2007.
Stephen J. Claeys,
Deputy Assistant Secretary for Import Administration.

[FR Doc. E7-14923 Filed 8-1-07; 8:45 am]

BILLING CODE 3510-DS-P